DEPARTMENT OF JUSTICE

Office of Justice Programs

[OMB Number: 1121-NEW]

Agency Information Collection Activities: Proposed Collection; Comments Requested

ACTION: 30-day emergency notice of information collection under review: International Terrorism Victim Expense Reimbursement Program Application.

The Department of Justice, Office of Justice Programs, Office for Victims of Crime has submitted the following new information collection request to the Office of Management and Budget (OMB) for review and clearance in accordance with emergency review procedures of the Paperwork Reduction Act of 1995. OMB approval has been requested by August 28, 2006. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Barbara Walker, Office for Victims of Crime , 810 Seventh Street, NW., Washington, DC 20531; by telefacsmile on (202) 514-2940. or by e-mail, to ITVERP@usdoj.gov.

Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology (e.g., permitting electronic submission of responses).

Overview of this information:

(1) Type of information collection: New.

(2) The title of the form/collection: International Terrorism Victim Expense Reimbursement Program (ITVERP) Application.

(3) The agency form number, if any, and the applicable component of the department sponsoring the collection: Form Number: none. Office of Justice Programs.

(4) Affected public who will be asked or required to respond, as well as a brief abstract: Primary: Individual victims, surviving family members or personal representatives Other: Federal Government. This application will be used to apply for expense reimbursement by U.S. nationals and U.S. Government employees who are victims of acts of international terrorism that occur(red) outside of the United States. The application will be used to collect necessary information on the expenses incurred by the applicant, as associated with his or her victimization, as well as other pertinent information, and will be used by OVC to make an award determination.

(5) An estimate of the total number of respondents and the amount of time estimated for an average respondent to respond/reply: It is estimated that 2,000 respondents will complete the certification in approximately 45 minutes.

(6) An estimate of the total public burden (in hours) associated with the collection: The estimated total public burden associated with this information collection is 1,500 hours.

If additional information is required contact: Lynn Bryant, Department Clearance Officer, Policy and Planning Staff, Justice Management Division, United States Department of Justice, 601 D Street NW., Patrick Henry Building, Suite 1600, NW, Washington, DC 20530.

Dated: August 8, 2006.
Lynn Bryant,
Department Clearance Officer, United States Department of Justice.

[FR Doc. E6-13176 Filed 8-10-06; 8:45 am]

BILLING CODE 4410-18-P